ENVIRONMENTAL PROTECTION AGENCY

[FRL-8010-3]

Notification of a Partially Closed Consultation of the Science Advisory Board's Homeland Security Advisory Committee (HSAC)

AGENCY: Environmental Protection Agency (EPA).

ACTION: Notice.

SUMMARY: The Environmental Protection Agency (EPA) announces a partially closed consultation of the HSAC.

DATES: The consultation will take place on January 30-31, 2006.

ADDRESSES: This consultation will take place at the EPA's SAB Conference Center located at the Woodies Building, 1025 F Street, NW., Room 3705, Washington, DC 20004.

FOR FURTHER INFORMATION CONTACT: Members of the public who wish to obtain further information regarding this announcement may contact Ms. Vivian Turner, Designated Federal Officer, by telephone: (202) 343-9697 or by e-mail at: turner.vivian@epa.gov. The SAB Mailing address is: U.S. EPA Science Advisory Board (1400F), U.S. Environmental Protection Agency, 1200 Pennsylvania Ave., NW., Washington, DC, 20460. General information about the SAB, as well as any updates concerning the consultation announced in this notice, may be found in the SAB Web site at: http://www.epa.gov/sab.

SUPPLEMENTARY INFORMATION: The EPA's Office of Water (OW) and Office of Research and Development (ORD) have requested a consultation with the SAB's Homeland Security Advisory Committee (HSAC) to obtain the individual advice of the HSAC members on the development of EPA's WaterSentinel (WS) program and Standard Analytical Methods (SAM). The WS program is being developed by the EPA in partnership with drinking water utilities and other key stakeholders in response to Homeland Security Presidential Directive 9. The initiative involves designing, deploying, and evaluating a model contamination warning system for drinking water security. Another essential component is the need for standardized analytical methods (SAM) to be used by all laboratories for responding to incidents that require rapid analysis. The EPA and other Federal parties, including the Centers for Disease Control and Prevention, the Food and Drug Administration, the Department of Homeland Security, the Federal Bureau of Investigation, the Department of Defense, the Department of Agriculture, and the U.S. Geological Survey, have evaluated the suitability of existing methodologies and selected a set of methods for use by EPA and contract laboratories to analyze environmental samples in times of national emergency. The methods are limited to chemical, biological, radiochemical, and biotoxin analytes in environmental media. The purpose of the consultation is to seek early advice from the individual members of the SAB HSAC regarding the proposed approach, design, adequacy and the future implementation for the WS program and the scientific soundness and adequacy of SAM.

The SAB was established by 42 U.S.C. 4365 to provide independent scientific and technical advice to the EPA Administrator. The SAB formed the HSAC as a subcommittee of the Chartered SAB to provide independent scientific and technical advice on matters pertaining to the environmental and health consequences of terrorism in response to an EPA request. Background on the HSAC and its charge was provided in a Federal Register Notice published on July 30, 2003 (68 FR 44761-44762). For this consultation, the HSAC will be augmented with experts from other SAB committees or individuals previously identified on the HSAC “Short List” (see, http://www.epa.gov/sab/panels/hsacadhoc.html).

It is EPA's policy to follow the provisions of the Federal Advisory Committee Act (FACA) for subcommittees of its chartered advisory committees. Accordingly, in accordance with FACA, EPA has determined that a portion of the SAB's HSAC consultation on WS will be closed to the public pursuant to section 552b(c)(9)(B) of the Government in the Sunshine Act (5 U.S.C. 552b(c)(9)(B)), which allows closure of a meeting if the “premature disclosure of [the information to be discussed] would * * * be likely to significantly frustrate implementation of a proposed agency action * * *.” This discussion will involve sensitive national security information relating to specific water sector vulnerabilities and emergency response tactics, including sensitive information relating to intentional contamination events. Also, EPA will present detailed findings about the emergency response capabilities of public health agencies and water utilities. The disclosure of this sensitive national security information would significantly frustrate the Agency's efforts to protect the nation's drinking water systems. Therefore, pursuant to section 10(d) of the Federal Advisory Committee Act, as amended, 5 U.S.C. App. 2, 10(d), I have determined that the topics identified above will concern matters that, if prematurely disclosed, would significantly frustrate implementation of proposed agency actions. Accordingly, pursuant to 5 U.S.C. 552b(c)(9)(B), this portion of the meeting will be closed to the public.

Availability of Meeting Materials: The agenda and other meeting materials for this consultation will be available prior to the meeting date on the SAB Web site: http://www.epa.gov/sab. EPA's technical documents on the WS program may be found at: http://www.cfpub.epa.gov/safewater/watersecurity/index.cfm. EPA's technical documents on SAM may be found at: http://www.epa.gov/ordnhsrc/pubs/reportSAM092905.pdf.

Procedures for Providing Public Comment: The SAB Staff Office accepts written public comments of any length, and will accommodate oral public comments whenever possible.

Oral Comments: Requests to provide oral comments must be in writing (e-mail, fax or mail) and received by Ms. Turner no later than January 20, 2006 to reserve time on the January 30-31, 2006 meeting agenda. Opportunities for oral comments will be limited to five minutes per speaker.

Written Comments: Written comments should be received in the SAB Staff Office by January 20, 2006 so that the comments may be made available to the members of the HSAC for their consideration. Comments should be supplied to Ms. Turner at the contact information provided above, in the following formats: One hard copy (original signature optional), or one electronic copy via e-mail (acceptable file format: Adobe Acrobat PDF, WordPerfect, Word, or Rich Text files (in IBM-PC/Windows 98/2000/XP format)).

Accessibility: For information on access or services for individuals with disabilities, please contact Ms. Turner at the phone number or e-mail noted above, preferably at least 10 days prior to the consultation, to give EPA as much time as possible to process your request.

Dated: December 13, 2005.
Stephen L. Johnson,
Administrator.

[FR Doc. E5-7505 Filed 12-16-05; 8:45 am]

BILLING CODE 6560-50-P